DEPARTMENT OF ENERGY

Federal Energy Regulatory Commission

[Project Nos. 2341-033, 2350-025]

Georgia Power Company; Notice of Intent To Prepare an Environmental Assessment

On December 18, 2018, as supplemented on May 24, 2019, September 6, 2022, September 8, 2022, and November 1, 2023, Georgia Power Company (Georgia Power) filed an application to surrender, decommission, and remove the Langdale Hydroelectric Project No. 2341 and the Riverview Hydroelectric Project No. 2350. The projects are located on the Chattahoochee River in Chambers County, Alabama and Harris County, Georgia. The project does not occupy federal lands.

The Commission issued public notice of the surrender applications for both proceedings on January 24, 2019, with protests, comments, and motions to intervene due to be filed by February 25, 2019. On February 14, 2019, the Commission issued public notice extending the comment and intervention period until March 4, 2019, due to the funding lapse at certain federal agencies between December 22, 2018 and January 25, 2019. Several commenters filed letters opposing the proposed dam removals at both projects while others expressed concern regarding the potential for islands in the river to be subject to increased erosion due to dam removal. Additional comments focused on concern for the potential loss of boating and fishing opportunities, loss of waterfront access from neighboring property, as well as for the continued existence of shoal bass. Letters of support for dam removal were filed by local citizens as well as the Georgia Department of Natural Resources Division of Wildlife Resources and the Chattahoochee Riverkeeper. The Muskogee Nation requested that archeological surveys be conducted prior to dam removal as well as subsequent monitoring to ensure protection of archeological sites.

On September 6, 2022, and supplemented on September 8, 2022, Georgia Power amended its surrender applications by filing the decommissioning plan for both projects. The Commission issued public notice of the decommissioning plan on November 17, 2022, with protests, comments, and motions to intervene due to be filed by December 19, 2022. On December 12, 2022, the FWS filed a letter of support for decommissioning the projects and removing the associated dams. No other comments were received pursuant to the public notice.

On November 1, 2023, Georgia Power filed the following plans: (1) Final Pre-Dam Removal Shoal Bass Abundance and Tracking Study Report; (2) Final Sediment Quality Study Report; (3) Final Sediment Transport Assessment Study Report; and (4) Revised Final Hydraulic and Hydrologic Study Report.

This notice identifies Commission staff's intention to prepare an environmental assessment (EA) for the project. The planned schedule for the completion of the EA is July 2024 ¹ Revisions to the schedule may be made as appropriate. The EA will be issued and made available for review by all interested parties. All comments filed on the EA will be reviewed by staff and considered in the Commission's final decision on the proceeding.

¹ 42 U.S.C. 4336a(g)(1)(B) requires lead federal agencies to complete EAs within 1 year of the agency's decision to prepare an EA. This notice establishes the Commission's intent to prepare an EA for the project; therefore, the EA must be issued within 1 year of the issuance date of this notice.

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Mark Ivy at 202.502.6156 or mark.ivy@ferc.gov.

Dated: December 21, 2023.
Debbie-Anne A. Reese,
Deputy Secretary.

[FR Doc. 2023-28698 Filed 12-27-23; 8:45 am]

BILLING CODE 6717-01-P